DEPARTMENT OF JUSTICE

Office of Justice Programs

[OJP (OJP) Docket No. 1488]

Meeting of the Public Safety Officer Medal of Valor Review Board

AGENCY: Office of Justice Programs (OJP), Justice.

ACTION: Notice of meeting.

SUMMARY: This is an announcement of a meeting of the Public Safety Officer Medal of Valor Review Board to review applications for the 2007-2008 Medal of Valor Awards and to discuss upcoming activities. The meeting time and location are located below.

DATES: October 30, 2008, 10 a.m. to 5 p.m.

ADDRESSES: The meeting will take place at the Office of Justice Programs, 810 7th Street, NW., Washington, DC 20531.

FOR FURTHER INFORMATION CONTACT: Gregory Joy, Policy Advisor, Bureau of Justice Assistance, Office of Justice Programs, 810 7th Street, NW., Washington, DC 20531, by telephone at (202) 514-1369, toll free (866) 859-2687, or by e-mail at gregory.joy@usdoj.gov.

SUPPLEMENTARY INFORMATION: The Public Safety Officer Medal of Valor Review Board carries out those advisory functions specified in 42 U.S.C. 15202. Pursuant to 42 U.S.C. 15201, the President of the United States is authorized to award the Public Safety Officer Medal of Valor, the highest national award for valor by a public safety officer. The purpose of this meeting is to review applications for the 2007-2008 Medal of Valor Awards and to discuss upcoming activities related thereto.

This meeting will be open to the public. For security purposes, members of the public who wish to attend must register at least five (5) days in advance of the meeting by contacting Mr. Joy. All attendees will be required to sign in at the front desk. Note: Photo identification will be required for admission. Additional identification documents may be required.

Access to the meeting will not be allowed without prior registration. Anyone requiring special accommodations should contact Mr. Joy at least five (5) days in advance of the meeting.

Eric Holland,
Deputy Assistant Attorney General, Office of Justice Programs.

[FR Doc. E8-22709 Filed 9-25-08; 8:45 am]

BILLING CODE 4410-18-P